NUCLEAR REGULATORY COMMISSION

[NRC-2018-0159]

Interim Staff Guidance for Decommissioning Funding Plans for Materials Licensees; Extension of Comment Period

AGENCY: Nuclear Regulatory Commission.

ACTION: Draft interim staff guidance; extension of comment period.

SUMMARY: On August 1, 2018, the U.S. Nuclear Regulatory Commission (NRC) solicited comments on its draft Interim Staff Guidance (ISG) on Decommissioning Funding Plans (DFP) for materials licensees in the Federal Register. The public comment period was originally scheduled to close on September 17, 2018. The NRC has decided to extend the public comment period until October 5, 2018, to allow more time for industry and members of the public to develop and submit their comments.

DATES: The due date for comments requested in the document published on August 1, 2018 (83 FR 37529), is extended. Comments should be filed no later than October 5, 2018. Comments received after this date will be considered, if it is practical to do so, but the Commission is able to ensure consideration only for comments received on or before this date.

ADDRESSES: You may submit comments by any of the following methods:

• Federal Rulemaking Website: Go to http://www.regulations.gov and search for Docket ID NRC-2018-0159. Address questions about NRC dockets to Jennifer Borges; telephone: 301-287-9127; email: Jennifer.Borges@nrc.gov. For technical questions, contact the individual listed in the FOR FURTHER INFORMATION CONTACT section of this document.

• Mail comments to: May Ma, Office of Administration, Mail Stop: TWFN-7-A60M, U.S. Nuclear Regulatory Commission, Washington, DC 20555-0001.

For additional direction on obtaining information and submitting comments, see “Obtaining Information and Submitting Comments” in the SUPPLEMENTARY INFORMATION section of this document.

FOR FURTHER INFORMATION CONTACT: Kenneth Kline, Office of Nuclear Material Safety and Safeguards, U.S. Nuclear Regulatory Commission, Washington DC 20555-0001; telephone: 301-415-7075, email: Kenneth.Kline@nrc.gov.

SUPPLEMENTARY INFORMATION:

I. Obtaining Information and Submitting Comments

A. Obtaining Information

Please refer to Docket ID NRC-2018-0159 when contacting the NRC about the availability of information for this action. You may obtain publicly-available information related to this action by any of the following methods:

• Federal Rulemaking Website: Go to http://www.regulations.gov and search for Docket ID NRC-2018-0159.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ISG for DFPs for materials licensees is available in ADAMS under Accession No. ML18163A087.

• NRC's PDR: You may examine and purchase copies of public documents at the NRC's PDR, Room O1-F21, One White Flint North, 11555 Rockville Pike, Rockville, Maryland 20852.

B. Submitting Comments

Please include Docket ID NRC-2018-0159 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On August 1, 2018, the NRC solicited comments on its draft ISG on DFPs for materials licensees. The purpose of this ISG is to provide NRC staff and industry with guidance based on developments and lessons learned regarding financial assurance since the last update to NUREG-1757, Volume 3. The ISG covers decommissioning cost estimates describing current facility conditions, evaluating events since the last DFP approval, and updates for certain financial instruments. The public comment period was originally scheduled to close on September 17, 2018. The NRC has decided to extend the public comment period on this document until October 5, 2018, to allow more time for industry and members of the public to submit their comments.

Dated at Rockville, Maryland, this 14th day of August 2018.
For the Nuclear Regulatory Commission.
Andrea L. Kock,
Deputy Director, Division of Decommissioning, Uranium Recovery and Waste Programs, Office of Nuclear Material Safety and Safeguards.

[FR Doc. 2018-17983 Filed 8-20-18; 8:45 am]

BILLING CODE 7590-01-P